ENVIRONMENTAL PROTECTION AGENCY

[ER-FRL-6637-2]

Environmental Impact Statements; Notice of Availability

Responsible Agency: Office of Federal Activities, General Information (202) 564-7167 or http://www.epa.gov/compliance/nepa.

Weekly receipt of Environmental Impact Statements

Filed January 20, 2003 Through January 24, 2003

Pursuant to 40 CFR 1506.9.

EIS No. 030032, FINAL EIS, NPS, CA, Santa Monica Mountains National Recreation Area General Management Plan, Implementation, Los Angeles and Ventura Counties, CA, Wait Period Ends: March 3, 2003, Contact: Allan Schmierer (510) 817-1441.

EIS No. 030033, FINAL SUPPLEMENT, COE, OR, WA, Columbia River Channel Improvement Project, Additional Information to Update the Disposal Plan and to Update the Project Economics, Columbia and Lower Williamette River Federal Navigation Channel, OR, Wait Period Ends: March 3, 2003, Contact: Laura Hicks (503) 808-4705.

EIS No. 030034, DRAFT EIS, AFS, CA, Stream Fire Restoration Project, Implementation, Plumas National Forest, Mt. Hough Ranger District, Plumas County, CA, Comment Period Ends: March 17, 2003, Contact: Rich Bednarski (520) 283-7641.

EIS No. 030035, DRAFT SUPPLEMENT, JUS, CA, Pinal County Private Detention Facility, Updated Information, Single Contact for 3,000 Beds Possible Sites (1) Undeveloped Parcel of Land in the City of Eloy and the Existing Central Arizona Detention Center Located in Florence, Pinal County, AZ, Comment Period Ends: March 17, 2003, Contact: Charles Coburn (202) 307-9045.

EIS No. 030036, FINAL SUPPLEMENT, NRC, PA, Peach Bottom Atomic Power Station Unit 2 and 3, Renewal of the Operating License for Nuclear Plants, NUREG-1437 Supplement 10 Located on the Banks of the Susquehanna River, York County, PA, Wait Period Ends: March 3, 2003, Contact: Duke Wheeler (301) 414-1444.

EIS No. 030037, FINAL EIS, FHW, IL, MO, Chicago-St. Louis High-Speed Rail Project, Improvement from Chicago to St. Louis to enhance the Passenger Transportation Network, NPDES Permit and COE Section 404 Permit, Cook, Will, Kankakee Grundy, Livington, McLean, Sangemon, Macoupin, Jersey, Madison and St. Louis Counties, IL and St. Louis County, MO, Wait Period Ends: March 10, 2003, Contact: Norman R. Stoner, P.E. (217) 492-4640.

EIS No. 030038, FINAL EIS, FHW, WA, WA-509 Extension/South Access Road Corridor Project, Construction, Funding and Possible COE Section 404 Permit, the Cities of SeaTac, Des Moines, Kent and Federal Way, King County, WA, Wait Period Ends: March 3, 2003, Contact: James Christian (306) 753-9480.

EIS No. 030039, FINAL EIS, BLM, OR, Lakeview Resource Management Plan, Unified Land Use Plan to Replace All or Portions of Three nearly Twenty Year Old Existing Land Use Plans, Implementation, Lake and Bend Counties, OR, Wait Period Ends: March 3, 2003, Contact: Paul Whitman (541) 947-6110.

EIS No. 030040, DRAFT EIS, AFS, WI, Hoffman-Sailor West Project, Proposal for Timber Harvest, Regeneration Activities, Connected Road Construction and Decommissioning Chequamegon-Nicolet National Forest, Medford/Park Falls Ranger District, Price County, WI, Comment Period Ends: March 17, 2003, Contact: Jane Darnell (715) 748-4875.

EIS No. 030041, FINAL EIS, EPA, FL, Peace River/Manasota Regional Surface Water Supply Authority's Surface Water Supply, Storage and Interconnect Project, Construction and Operation to Increase Finished Water Delivery Capacity of 32.7 Million Gallons Per Day To Meet Year 2015 Potable Water Demand, DeSoto, Manatee, Sarasota and Charlotte Counties, FL, Wait Period Ends: March 3, 2003, Contact: John Hamilton (404) 562-9617.

EIS No. 030042, FINAL EIS, DOE, WA, Schultz-Hanford Transmission Line Project, New 500 kilovolt (kV) Transmission Line Construction, Central Washington, north of Hanford connecting to existing line at the Schultz Substation, Kittitas, Yakima, Grant and Benton Counties, WA, Wait Period Ends: March 3, 2003, Contact: Nancy Wittpenn (503) 230-3297.

EIS No. 030043, FINAL EIS, JUS, CA, Sacramento County Juvenile Hall Expansion Project, To Accommodate 90 new beds in the Short-Term, and 240 new beds in the Long-Term, Sacramento County, CA, Wait Period Ends: March 3, 2003, Contact: John Veen (202) 616-2251.

EIS No. 030044, DRAFT EIS, FRC, WY, MT, ND, Grasslands Pipeline Project, Construct and Operate an Interstate Natural Gas Pipeline System, Docket No. CP02-037-000, WY, ND and MT, Comment Period Ends: March 17, 2003, Contact: Rich McGuire (202) 502-6177. This document is available on the Internet at: http://www.ferc.gov.

EIS No. 030045, FINAL SUPPLEMENT, BLM, NV, Betze-Post Project, Updated Information, Dewatering Operations and a Proposed Pipeline, Elko and Eureka Counties, NV, Wait Period Ends: March 3, 2003, Contact: Kirk Laird (775) 753-0272.

Dated: January 28, 2003.
Joseph C. Montgomery,
Director, NEPA Compliance Division, Office of Federal Activities.

[FR Doc. 03-2345 Filed 1-30-03; 8:45 am]

BILLING CODE 6560-50-P